DEPARTMENT OF ENERGY

Federal Energy Regulatory Commission

[Docket No. RP96-366-012]

Florida Gas Transmission Company; Notice of Compliance Filing

February 1, 2000.

Take notice that on January 27, 2000, Florida Gas Transmission Company (FGT) tendered for filing as part of its FERC Gas Tariff, Third Revised Volume No. 1, the following tariff sheet, to become effective March 1, 2000:

Twenty-Ninth Revised Sheet No. 8A.01

FGT states that on August 5, 1997, FGT filed a Stipulation and Agreement of Settlement (Settlement) in Docket Nos. RP96-366, et al. resolving all issues in this rate proceeding. Pursuant to Article XIII, the Settlement became effective upon the first day of the first month following the issuance of a final Commission order. On September 24, 1997, the Commissiion issued an order approving the Settlement. Because no party requested rehearing as of October 24, 1997, the Settlement became effective November 1, 1997.

FGT states that the Settlement, among other provisions, provided that the Rate Schedule FTS-2 rates for transportation service through FGT's incremental expansion capacity would be tiered the filed rate would be effective from March 1, 1997 through February 28, 1999 with decreases becoming effective March 1, 1999 and March 1, 2000. Tariff Sheet 8A.01, which contains the Rate Schedule FTS-2 rates, reflected the Settlement rates for all three periods for FTS-2 service, with the decreases becoming effective March 1, 1999 and March 1, 2000 contained in a footnote.

FGT states that it is making the instant filing to replace the FTS-2 rates which are effective from March 1, 1999 through February 28, 2000 with the reservation and usage rates which become effective March 1, 2000. The reservation and usage rates which become effective March 1, 2000 are contained in footnote 1 on the currently effective sheet No. 8A.01.

Any person desiring to protest this filing should file a protest with the Federal Energy Regulatory Commission, 888 First Street, NE, Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-2659 Filed 2-4-00; 8:45 am]

BILLING CODE 6717-01-M